DEPARTMENT OF AGRICULTURE

Food Safety and Inspection Service

[Docket No. 02-031N]

Codex Alimentarius Commission: Coordinating Committee for North America and the South-West Pacific

AGENCY: Food Safety and Inspection Service, USDA.

ACTION: Notice of public meeting, request for comments.

SUMMARY: The Office of the Under Secretary for Food Safety, United States Department of Agriculture, is sponsoring a public meeting on Tuesday, October 1, 2002, to provide information and receive public comments on agenda items that will be discussed at the Coordinating Committee for North America and the South-West Pacific (CCNASWP). The Under Secretary recognizes the importance of providing interested parties with information about the Coordinating Committee for North America and the South-West Pacific of the Codex Alimentarius Commission (Codex) and to address items on the Agenda for the 7th CCNASWP.

DATES: The public meeting is scheduled for Tuesday, October 1, 2002 from 10 a.m. to 12 noon.

ADDRESSES: The public meeting will be held in Room 0161 South Building, United States Department of Agriculture, 1400 Independence Ave. SW., Washington, DC. To receive copies of the documents referenced in the notice contact the FSIS Docket Clerk, U.S. Department of Agriculture, Food Safety and Inspection Service, Room 102, Cotton Annex, 300 12th Street, SW., Washington, DC 20250-3700. The documents will also be accessible via the World Wide Web at the following address: http://www.codexalimentarius.net/current.asp. If you have comments, please send an original and two copies to the FSIS Docket Clerk and reference Docket #02-031N. All comments submitted will be available for public inspection in the Docket Clerk's office between 8:30 a.m. and 4:30 p.m., Monday through Friday.

FOR FURTHER INFORMATION CONTACT: Dr. William James, Acting Director, U.S. Codex Office, Food Safety and Inspection Service, Room 4861, South Building, 1400 Independence Avenue SW., Washington, DC 20250, Phone: (202) 205-7760, Fax: (202) 720-3157. Persons requiring a sign language interpreter or other special accommodations should notify Dr. James at the above number.

Supplementary Information:

Background

Codex was established in 1962 by two United Nations organizations, the Food and Agriculture Organization (FAO) and the World Health Organization (WHO). Codex is the major international organization for protecting the health and economic interests of consumers and for encouraging fair international trade in food. Through adoption of food standards, codes of practice, and other guidelines developed by its committees, and by promoting their adoption and implementation by governments, Codex seeks to ensure that the world's food supply is sound, wholesome, free from adulteration, and correctly labeled. In the United States, USDA, FDA, and EPA manage and carry out U.S. Codex activities.

The Coordinating Committee for North America and the South-West Pacific defines the problems and needs of the region concerning food standards and food control. It provides within the committee contacts for the mutual exchange of information on proposed regulatory initiatives and problems arising from food control and stimulates the strengthening of food control infrastructures. It recommends to the Commission the development of world-wide standards for products of interest to the region, including products considered by the committee to have an international market potential in the future. It exercises a general coordinating role for the region and such other functions as may be entrusted to it by the Commission. It draws the attention of the Commission to any aspects of the Commission's work of particular significance to the region. The Government of Canada is hosting this activity.

Issues To Be Discussed at the Public Meeting

The provisional agenda items will be discussed during the public meeting:

1. Adoption of the Agenda

2. Matters Referred by the Codex Alimentarius Commission and other Codex Committees

3. Joint FAO/WHO Evaluation of the Codex Alimentarius and Other FAO and WHO work on Food Standards

4. Other Matters of Interest from FAO and WHO

5. Consideration of the Draft Medium-Term Plan 2003-2007

6. Consideration of “Traceability/Product Tracing”

7. Capacity Building for Food Standards and Regulations

8. Information and Reports on Food Control and Food Safety Issues including Codex Standards

9. Consumer Participation in Food Standards Setting at the Codex and National Level

10. Strategic Plan for NASWP

11. Nomination of the Coordinator from among the Members of the Commission

12. Other Business and Future Work

Each issue listed will be fully described in documents distributed, or to be distributed, by the Canadian Secretariat to the Meeting. Members of the public may access or request copies of these documents (see ADDRESSES).

Public Meeting

At the October 1st public meeting, the agenda items will be described, discussed, and attendees will have the opportunity to pose questions and offer comments. Comments may also be sent to the FSIS Docket Room (see ADDRESSES). Written comments should state that they relate to activities of the 7th CCNASWP (Docket #02-031N).

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on: September 11, 2002.
F. Edward Scarbrough,
U.S. Manager for Codex Alimentarius.

[FR Doc. 02-23491 Filed 9-13-02; 8:45 am]

BILLING CODE 3410-DM-P